FEDERAL COMMUNICATIONS COMMISSION

[GN Docket No. 12-268; DA 14-389]

Media Bureau Seeks Comment on Widelity Report and Catalog of Potential Expenses and Estimated Costs

AGENCY: Federal Communications Commission.

ACTION: Notice.

SUMMARY: In this Public Notice, the Federal Communications Commission (Commission) seeks comment on a Report and Catalog produced by a third-party contractor, Widelity Inc. (Widelity), that describes the process and costs associated with the post-Incentive Auction transition. In order to disburse money from the $1.75 billion TV Broadcaster Relocation Fund within the limitations of the Spectrum Act, the Commission seeks further comment on the Report and the Catalog, including both the categories of costs and the prices suggested by Widelity. The record obtained in response to the Public Notice will help develop a final Catalog of Eligible Expenses and other reimbursement provisions that govern disbursement from the Fund to broadcasters and MVPDs in the post-Incentive Auction transition.

DATES: Comments are due on or before April 21, 2014 and reply comments are due on or before May 6, 2014.

ADDRESSES: All filings must be addressed to the Commission's Secretary, Office of the Secretary, Federal Communications Commission, 445 12th Street SW., Washington, DC 20554. Commercial overnight mail (other than U.S. Postal Service Express Mail and Priority Mail) must be sent to 9300 East Hampton Drive, Capitol Heights, MD 20743. U.S. Postal Service first-class, Express, and Priority mail must be addressed to 445 12th Street SW., Washington DC 20554. Parties shall also serve one copy with the Commission's copy contractor, Best Copy and Printing, Inc. (BCPI), Portals II, 445 12th Street SW., Room CY-B402, Washington, DC 20554, (202) 488-5300, or via email to fcc@bcpiweb.com.

FOR FURTHER INFORMATION CONTACT: Mary Margaret Jackson, 202-418-3641, Pamela Gallant, 202-418-0614, or Kim Matthews, 202-418-2154.

SUPPLEMENTARY INFORMATION: The Commission engaged Widelity to aid the Commission in understanding the process and costs associated with the post-Incentive Auction transition. Widelity has produced a Report, “Response to the Federal Communications Commission for the Broadcasters Transition Study Solicitation” along with a “Catalog of Potential Expenses and Estimated Costs.” In producing both of these items, Widelity conducted confidential interviews of a broad range of industry players, including TV broadcast group engineers, radiofrequency and structural engineers, suppliers, support companies, manufacturers, attorneys, and network engineers. The Report recognizes that the post-Incentive Auction repacking process will be complex, but concludes that, with cooperation, patience, creative problem solving, and guidance from the Commission and industry groups, the transition can be achieved with the desired outcomes. The Catalog, a prior version of which was released in September 2013, now includes Widelity's suggested prices, or range of suggested prices, for many Catalog items. Widelity developed the suggested prices by conducting confidential interviews with buyers and sellers of equipment and services with direct knowledge of pricing. The Commission had no role in the development of the suggested prices. The suggested prices are estimates only and are not meant to indicate that reimbursement will reflect the suggested prices. The Media Bureau seeks additional input from interested parties on the Report and the Catalog, including on the suggested prices, as well as any further comments on the categories of costs included. A final Catalog of Eligible Expenses and Estimated Costs will be released prior to the auction.

Federal Communications Commission.
William T. Lake,
Chief, Media Bureau.

[FR Doc. 2014-07138 Filed 3-28-14; 8:45 am]

BILLING CODE 6712-01-P